PRESIDIO TRUST

The Presidio of San Francisco, California; Extension of the Public Comment Period for the Draft Presidio Trust Implementation Plan and Draft Environmental Impact Statement

AGENCY: The Presidio Trust.

ACTION: Extension of public comment period.

SUMMARY: The Presidio Trust (Trust) is extending the public comment period for the draft Presidio Trust Implementation Plan (PTIP) and draft Environmental Impact Statement (EIS) from September 25, 2001 to October 25, 2001 to provide additional opportunity for the public to review and comment on the draft PTIP and EIS. The draft PTIP is a proposed update to the July 1994 Final General Management Plan Amendment (GMPA) for the portion of The Presidio of San Francisco (Presidio) under the jurisdiction of the Trust. The PTIP EIS supplements the GMPA Environmental Impact Statement adopted by the National Park Service for the Presidio in 1994.

SUPPLEMENTARY INFORMATION: The Trust, as lead agency, released and circulated for review to the public and commenting agencies the draft EIS for the PTIP on July 25, 2001. The Environmental Protection Agency (EPA) published a notice of the draft EIS in the Federal Register on July 27, 2001 (66 FR 39161). The Trust published a notice in the Federal Register on July 26, 2001 (66 FR 39058-59) regarding the availability of the draft EIS, where and how it could be reviewed, and the date and location of public hearings to comment on the document. The EPA notice and Trust notice initially provided for a 60-day comment period for the draft EIS ending September 25, 2001. In response to several requests for commenting organizations and other parties, the Trust is now extending this period by 30 days to October 25, 2001. The Trust is providing this longer 90-day review period to further enhance the opportunities for public and agency participation in the National Environmental Policy Act process for the PTIP.

FOR FURTHER INFORMATION CONTACT: John Pelka, NEPA Compliance Coordinator, the Presidio Trust, 34 Graham Street, P.O. Box 29052, San Francisco, CA 94129-0052. Telephone: 415/561-5414.

Dated: August 28, 2001.
Karen A. Cook,
General Counsel.

[FR Doc. 01-22109 Filed 8-31-01; 8:45 am]

BILLING CODE 4310-4R-P